DEPARTMENT OF COMMERCE

[Docket No. 991208326-9326-01]

RIN 0605-XX06

Privacy Act of 1974; Altered System of Records

AGENCY: Department of Commerce.

ACTION: Notice of amendment of Privacy Act System of Records: Commerce System 14.

SUMMARY: In accordance with the Privacy Act (5 U.S.C. 552a(e) (4) and (11), the Department of Commerce is issuing notice of our intent to amend the system of records entitled Commerce Department System 14, “Litigation, Claims, and Administrative Proceeding Records,” to add to this system records compiled in conjunction with a newly established complaint procedure for sexual orientation discrimination claims. We invite public comment on the proposed change in this publication.

DATES: Effective Date: The amendments will become effective May 22, 2000.

Comment Date: Written comments must be submitted on or before May 22, 2000.

ADDRESSES: Comments may be mailed to Kathryn E. Hawker, Chief, Compliance Division, Office of Civil Rights, U.S. Department of Commerce, Room 7840, 14th & Constitution Avenue, NW, Washington, DC 20230, 202-482-4993.

SUPPLEMENTARY INFORMATION: The amendment adds to this system files containing records of claims filed under a new complaint procedure for sexual orientation discrimination claims that will be established by Department Administrative Order. This complaint process is being established to implement Executive Order 11478, as amended by Executive Order 12106, and as further amended by Executive Order 13087 (collectively, the Executive Order). This Executive Order prohibits employment discrimination based on sexual orientation in Federal employment and provides that “this policy of equal opportunity applies to and must be an integral part of every aspect of personnel policy and practices in the employment, development, advancement, and treatment of civilian employees of the Federal government, to the extent permitted by law.” The new complaint process provides a mechanism for ensuring that the requirements of the Executive Order are being met throughout the Department.

The Department's sexual orientation process is modeled on the Equal Employment Opportunity (EEO) complaint process. Employees and applicants who believe they have been subject to discrimination based on sexual orientation or related retaliation must first contact an EEO Counselor, who attempts to resolve the issues informally. If the issues are not resolved through counseling, the complainant may file a formal complaint of discrimination with the Department's Office of Civil Rights, which investigates the issues. The Director, Office of Civil Rights issues a final decision on the merits. The Department's Alternative Dispute Resolution Process may be used at any time throughout the complaint process. Final agency decisions may be appealed to the Department's Chief Financial Officer/Assistant Secretary for Administration.

Classification

This notice is not subject to the notice and comment requirements of the Administrative Procedure Act. 5 U.S.C. 553(a)(2).

This notice is exempt from review under Executive Order 12866.

Brenda Dolan,
Departmental Freedom of Information Act and Privacy Act Officer.

Accordingly, the Litigation, Claims, and Administrative Proceeding Records system notice originally published at 46 FR 63517, December 31, 1981, is amended by the addition of the following information and updates:

COMMERCE/DEPT-14

System name:

Litigation, Claims, and Administrative Proceeding Records.

System location:

Insert before current paragraph i:

“For matters involving the Department's Sexual Orientation Discrimination Complaint Process: Files containing informal complaint records are maintained by the Bureau EEO Officer. Files containing records of formal complaints are maintained in the Departmental Office of Civil Rights, U.S. Department of Commerce, 14th Street and Constitution Avenue, NW, Room 6010, Washington, DC 20230.

Change current paragraph i. to paragraph j.

Categories of individuals covered by the system: *

Categories of records in the system: *

Authority for maintenance of the system:

Add after “E.O. 10450;': “E.O. 11478”, as amended.

Routine uses of records maintained in the system, including categories of users and purposes of such uses:

The names, social security numbers, home address and salary may be disclosed to the appropriate federal, state, or local agency responsible for investigating, prosecuting, enforcing, or implementing a statute, rule, regulation, or order, where the disclosing agency becomes aware of an indication of a violation or potential violation of civil or criminal law or regulation; to a congressional office from the record of an individual in response to an inquiry from that congressional office made at the request of that individual; to an authorized appeal grievance examiner, formal complaints examiner, administrative judge, equal employment opportunity investigator, arbitrator or other duly authorized official engaged in investigation or settlement of a grievance, complaint or appeal filed by an employee; in response to a request for discovery or for appearance of a witness, information that is relevant to the subject matter involved in a pending judicial or administrative proceeding.

Policies and practices for storing, retrieving, accessing, retaining, and disposing of records in the system:

Storage:

Add after “Paper records in file folders”: “and electronic records in computer files.

Retrievability:

Add after “Files alphabetically by name”: “or numerically by complaint number.

Safeguards:

After first sentence, add: “Access to electronic files is limited to those whose official duties require access.”

Retention and disposal: *

System manager(s) and address:

Add before last paragraph:

“For records at location i.: Chief, Compliance Division, Office of Civil Rights, U.S. Department of Commerce, Washington, DC 20230.”

Change last paragraph as follows: Strike “e, f and i.:” and replace with “e, f, and j.:”

Notification procedure:

Strike “For records at location i.:” and replace with “For records at location j.:”

Prior to the above sentence, add:

For records at location i.: Information may be obtained from: Chief, Compliance Division, Office of Civil Rights, U.S. Department of Commerce, Washington, DC 20230.”

Records access procedures: *

Contesting record procedures: *

Record source categories: *

Systems exempted from certain provisions of the act: *

* No changes are being made.

[FR Doc. 00-9931 Filed 4-19-00; 8:45 am]

BILLING CODE 3510-BP-P